DEPARTMENT OF LABOR

Employment and Training Administration

Workforce Investment Act (WIA) Standardized Record Data (WIASRD), Quarterly Summary Report, and Annual Report; Comment Request

ACTION: Notice; Request for Comments.

SUMMARY: The Department of Labor (Department), as part of its continuing effort to reduce paperwork and respondent burden, conducts a pre-clearance consultation program to provide the general public and Federal agencies with an opportunity to comment on proposed and/or continuing collections of information in accordance with the Paperwork Reduction Act of 1995 ((PRA95) (44 U.S.C. 3506 (c) (2) (A)). This program helps to ensure that requested data can be provided in the desired format, reporting burden (time and financial resources) is minimized, collection instruments are clearly understood, and the impact of collection requirements on respondents can be properly assessed. Currently, the Employment and Training Administration (ETA) is soliciting comments concerning the new management information and reporting system including the Workforce Investment Act Standardized Record Data (WIASRD), the Quarterly Summary Report and the Annual Report under the Workforce Investment Act of 1998 (WIA).

DATES: Written comments must be submitted to the office listed in the addresses section below on or before June 2, 2000. The Department is particularly interested in comments which:

—Evaluate the Department's ability to meet its reporting responsibility using the proposed system;

—Evaluate whether the proposed collection of information is necessary for the proper performance of the functions of the agency including whether the information will have practical utility;

—Enhance the quality, utility, and clarity of the information to be collected;

—Minimize the burden of the collection of information on those who are to respond, including the use of appropriate electronic reporting mechanisms; and

—Examine the accuracy of the Department's estimate of the burden of the proposed collection of information, including the validity of the methodology and assumptions used.

ADDRESSES: Please address correspondence concerning the proposed system to: U.S. Department of Labor, Employment and Training Administration, Office of Workforce Security, 200 Constitution Avenue, NW., Room S4231, Washington, DC 20210, Attention: William Rabung, Fax: (202) 219-8506. (This is not a toll-free number.), or E-mail: wrabung@doleta.gov.

SUPPLEMENTARY INFORMATION:

I. Background

Performance accountability is a key principle under the Workforce Investment Act of 1998 (WIA). The Department intends to support the desired focus on customer service and continuous improvement by providing opportunities for accountability at all levels of the system, especially at the State and local levels.

The basic accountability system will allow the Department to manage its responsibilities under WIA secs. 136(d) and 189(d) in terms of reporting the progress of States in achieving negotiated levels of performance on the required core and customer satisfaction measures, its responsibilities under WIA sec. 185(a)(2), (c)(2), and (d) in terms of reports and recordkeeping, and its responsibilities under the Government Performance and Results Act (GPRA). The Federal reporting and record keeping structure will build on, and reflect the customer service focus, the continuous improvement goals, and the partnership expectations. In general, Federal reporting and recordkeeping requirements will be those minimally required to comply with statutory provisions, and will be designed so that they may be satisfied through systems put in place by the State and local partners to ensure State and local accountability.

There will be two basic report systems—financial and program. Financial reports will be required quarterly, as provided for in WIA sec. 185(e). To avoid unnecessary reporting, the quarterly financial report looks at expenditures and records related to WIA sec. 185(f) and (g). The quarterly financial report was addressed in a separate Federal Register Notice (65 FR 5897-5898, Feb. 7, 2000). The three program reports include:

A. Individual Records

The Department has established a standard set of core data elements that must be maintained for each individual who receives WIA Title IB services beyond self-service and informational activities. The number of data elements collected for each individual is commensurate with the intensity of the service. Beginning July 1, 2000, States must submit copies of the individual participant records once each year by September 30 for all participants, including participants who exited but for whom information on outcomes is not yet complete. The individual standardized records will be strictly confidential. The Workforce Investment Act Standardized Record Data (WIASRD) will contain:

—Relevant demographic characteristics including race, ethnicity, sex and age and other related information on the participants (WIA sec. 185(d)(1)(A));

—WIA Title IB and partner program activities in which the participants are enrolled and the length of time the participants are engaged in such activities (WIA sec. 185(d)(1)(B)); and

—Outcomes for the participants, including occupations and placement in non-traditional employment (WIA sec. 185(d)(1)(C)).

The proposed WIASRD and related documents can be viewed at the Department's Internet website, http://www.usworkforce.org.

B. Quarterly Summary Reports

Quarterly summary reports reflecting statewide activity for negotiated performance and actual performance levels as well as the number of current participants and those participants who exited during the program period, will provide DOL with key information necessary for program oversight purposes. This information will facilitate the Department's efforts in assessing its own performance against established GPRA goals. States will be expected to electronically submit the quarterly summary reports within 45 days following the end of each quarter.

Quarterly reports are described in WIA sec. 185(a)(2)—“Every such recipient shall maintain such records and submit such reports, in such form and containing such information, as the Secretary may require regarding the performance of programs and activities carried out under this title. Such records and reports shall be submitted to the Secretary but shall not be required to be submitted more than once each quarter unless specifically requested by Congress or a committee of Congress, in which case an estimate may be provided.”

The proposed Quarterly Summary Report Format and instructions for completing this report can be viewed at the Department's Internet website, http://www.usworkforce.org.

C. Annual Reports

On a yearly basis, States must publish and submit to the Secretary an Annual Report which explains the outcomes of WIA Title IB programs to employers, taxpayers, participants and Congress and meets the provisions at WIA sec. 136(d) and WIA sec. 185(d) as described in the following chart:

Required Components of The Annual Report
WIA citation | Performance-related items
§ 136(d)(1) | State's progress in achieving performance measures including the core indicators of performance, the customer satisfaction indicator, any additional indicators of performance (if any) identified by the State, and the negotiated level of performance for each indicator.
§ 136(d)(1) | Progress of local areas in the States in achieving performance measures including the core indicators of performance and the customer satisfaction indicators.
§ 136(d)(2)(A) | Entry by participants who have completed training services provided under section 134(d)(4) into unsubsidized employment related to the training received.
§ 136(d)(2)(B) | Wages at entry into employment for participants in workforce investment activities who entered unsubsidized employment, including the rate of wage replacement for such participants who are dislocated workers.
§ 136(d)(2)(C) | Cost of workforce investment activities relative to the effect of the activities on the performance of participants. (Please note: States will have the flexibility to define this element.)
§ 136(d)(2)(D) | Retention and earnings received in unsubsidized employment 12 months after entry into the employment.
§ 136(d)(2)(E) | Performance with respect to the indicators of performance specified in subsection (b)(2)(A) of participants in workforce investment activities who received the training services compared with the performance of participants in workforce investment activities who received only services other than the training services (excluding participants who received only self-service and informational activities).
§ 136(d)(2)(F) | Performance with respect to the indicators of performance specified in subsection (b)(2)(A) of recipients of public assistance, out-of-school youth, veterans, individuals with disabilities, displaced homemakers, and older individuals.

Citation | Other performance-related items
§ 136(d)(1) | Status of State evaluations of workforce investment activities described in subsection (e) (evaluation of state programs).
§ 189(d)(1) | A summary of the achievements, failures, and problems of the programs and activities in meeting the objectives of this title.
§ 189(d)(2) | A summary of major findings from research, evaluations, pilot projects, and experiments conducted under this title in the fiscal year prior to the submission of the report.
§ 189(d)(3) | Recommendations for modifications in the programs and activities based on analysis of such findings.
§ 189(d)(4) | Such other recommendations for legislative or administrative action as the Secretary determines to be appropriate.
§ 185(d)(1)(D) | Specified costs of the (programs and) activities.
§ 136(d)(3) | Information dissemination.—The Secretary—(A) shall make the information contained in such reports available to the general public through publication and other appropriate methods; (B) shall disseminate State-by-State comparisons of information; and (C) shall provide the appropriate congressional committees with copies of such reports.

The Annual Report will be prepared by each State in accordance with guidelines established by the Department, including definitions for calculating performance, and specifications for satisfactory completion and submission of the report. The State's Annual Report will include state performance as well as local performance.

The Annual Report will be sent to Congress. The performance outcomes detailed in the report will serve as the basis for awarding incentives or administering sanctions to States for performance which exceeds or falls below the negotiated levels of performance (The negotiation process and details of the incentive and sanction process are described in separate Federal guidance—TEGL 8-99). The final approach to distributing incentive awards is still under development, but may include, among other things, performance reports from each State submitted by the date specified by the Secretary. A State that does not meet the deadline (September 30 of each year) for submission may be subject to sanction as described in WIA sec. 136(g)(1) and Interim Final Rule at 20 CFR 667.300 (e).

The Secretary plans to post these annual reports on a web site. In accordance with the Act, the Secretary will send copies of the State's Annual Report to each Local Workforce Investment Board (local board) and to the State Workforce Investment Board (State Board) if the State does not submit assurance that this has been accomplished by the time of submission to the Secretary.

The instructions for completing an annual report can be accessed and viewed at the Department's Internet website, http://www.usworkforce.org.

In order to report on the two required customer satisfaction measures (one for employers and one for participants) in the annual and quarterly summary reports, States must conduct surveys of both groups following the directions contained in Attachment V posted on the Department's Internet website, http://www.usworforce.org.

II. Current Actions

The proposed data collection and reporting system will assist the Department in meeting its mandated responsibilities by providing standardized information regarding demographics, activities and outcomes for all registrants receiving more than informational or self-service in all States and workforce investment areas. Information will also be used for general oversight, continuous improvement and research purposes.

Type of Review: New.

Agency: Employment and Training Administration.

Titles: Workforce Investment Act Standardized Record Data, (WIASRD), Annual Report, Quarterly Summary Reports.

OMB Number: 1205-0NEW.

Affected Public: State governments, local workforce investment areas, and local workforce investment boards.

Cite/Reference: Authority to collect this information is provided by the Workforce Investment Act of 1998 in secs. 136, 185, and 189.

Form/etc: See the documents posted on the Department's Internet website, http://www.usworkforce.org.

Total Respondents: 56 (50 States, American Samoa, Commonwealth of the Northern Mariana Islands, District of Columbia, Guam, Puerto Rico, and Virgin Islands).

Frequency: Annual Report—Yearly by September 30 with quarterly summary reports due within 45 days following each quarter Individual Record—Annually by September 30.

Total Responses: One Annual Report for each respondent. States must submit three hard copies and one electronic copy of the annual report to the Secretary of Labor. One electronic submission of the Quarterly Summary Report from each respondent. One electronic data set from each of the respondents containing individual records for each registrant served.

Average Time: 13,862 hours.

Per Response: The actual response time will vary by number of local workforce investment boards and individual records of individuals served in the State.

Cite/reference | Total respondents | Frequency | Total responses | Average time per response | Burden (total nat. hours)
Individual Record | 56 | Annually | 1 set of records per respondent (set will vary in size depending on the number of individuals served in the jurisdiction) | 13,152 hours | 736,512
Annual Report | 56 | Annually | 56 | 40 hours | 2,240
Customer Satisfaction Survey | 500 participants 500 employers | Quarterly/Annually | 56,000 | 5 min. 1/12 hr.)* | 4,667.
(Results to be included in the Annual and Quarterly Reports) | Agency Admin. 56 |  | 56 | 500 hours | 28,000
| Overhead 56 |  | 56 | 154 hours | 8,624
Quarterly Summary Report (Statewide aggregate data only) | 56 | Quarterly | 224 (56X4) | 16 hours | 3,584
Totals | 1,056 | Quarterly/Annually | 56,281 | 13,862 hours | 783,627
* Assumes only 3 ASCI questions are administered.

Explanation of Burden Hours

Individual Record—736,512 hrs

Baseline: 8,768 hrs./reporting unit (State) (56 reporting units) in last FRN regarding Job Training Partnership Act (JTPA) reporting system (SPIR). Factor: 50% higher due to (1) increase in size of record, and (2) increase in number of program participants. Increases were not cumulative; some allowance made for economies of scale and learning curve.

Annual Report—2,240 hrs

Estimate based on 40 hrs./reporting unit to produce one report per year (includes program run, checking, report formatting for transmission).

Quarterly Report—3,584 hrs

Estimate based on 64 hrs./reporting unit to produce four reports per year (includes program run, checking, report formatting for transmission)—16 hrs./report.

Customer Satisfaction Survey

Respondents—4,667 hrs.

Estimate based on 1,000 responses per reporting unit (500 WIA participants and 500 employers) and 5 min. (1/12 hr.) per survey. This assumes only the three ACSI questions are asked.

Survey Administration—28,000 hrs.

Estimate based on 30 min. (0.5 hrs.) to obtain a completed survey (telephone contacts, call-backs, data entry).

Survey Preparation and Overhead—8,624 hrs.

Estimate based on:

Survey development (preparation of questionnaire and telephone script for interviewer)—40 hrs./reporting unit.

Sample selection—24 hrs./reporting unit.

Survey set-up (setting up survey for telephone administration and creation of a database)—40 hrs./reporting unit.

Compilation of results (includes generation of descriptive statistics and calculation of index for participants and employers)—50 hrs./reporting unit.

Total Burden Cost (capital/start-up)—$825,906

Estimate based on ⅓ staff year to develop WIASRD data record; this estimate was based on experience of Utah in converting from SPIR to WIASRD and programming time for the Data Validation and Denied Claims Accuracy pilots. A staff year cost factor of $44,245 was applied; this is the salary/benefits rate used in the FY 2000 budget.

Total Burden Cost (operating/maintaining)—$16,653,333.50

The estimate is based on the $44,245 staff year cost factor applied to the burden hours listed above. The burden hours for participant and employer responses to the customer satisfaction surveys equates to $24,035, while the burden cost for developing the survey and start-up totals $183,432.

Comments submitted in response to this comment request will be summarized and/or included in the request for Office of Management and Budget approval of the information collection request; they will become a matter of public record.

III. Documents for Review and Comment

The following documents cited in this notice can be viewed at the Department's Internet website, http://www.usworkforce.org:

—The Workforce Investment Act Title IB Standardized Record Data (WIASRD) layout;

—The Workforce Investment Act Quarterly Summary Report Format;

—The Instructions for Submission of WIA Quarterly Summary Report;

—The instructions for submission of the WIA Annual Report; and

—The instructions for capturing, computing and recording outcomes on the Customer Satisfaction Measures

Dated: March 28, 2000.
Raymond L. Bramucci,
Assistant Secretary of Labor.

[FR Doc. 00-8122 Filed 3-31-00; 8:45 am]

BILLING CODE 4510-30-P